SECURITIES AND EXCHANGE COMMISSION

[File No. 1-10869]

Issuer Delisting; Notice of Application To Withdraw From Listing and Registration; (Unique Mobility, Inc., Common Stock, $.01 Par Value)

March 9, 2000.

Unique Mobility, Inc. (“Company”) has filed an application with the Securities and Exchange Commission (“Commission”), pursuant to Section 12(d) of the Securities Exchange Act of 1934 (“Act”) ¹ and Rule 12d2-2(d) ² promulgated thereunder, to withdraw the security described above (“Security”) from listing and registration on the Boston Stock Exchange, Incorporated (“BSE” or “Exchange”).

¹ 15 U.S.C. 78l(d).

² 17 CFR 240.12d2-2(d)

In its application the Company stated that the Security, in addition to being listed on the BSE, has been listed and trades on the American Stock Exchange LLC (“Amex”) and other stock exchanges. The Security has traded simultaneously on the BSE and the Amex since July 13, 1994.

In making the determination to withdraw its Security from listing and registration on the BSE, the Company considered the direct and indirect costs and expenses arising from maintaining listings for its Security on the BSE and Amex simultaneously. In view of the fact that most of the trading in the Security occurs on the Amex, the Company feels that the expenses associated with maintaining its listing on the BSE are justifiable, and that such listing has not appreciably enhanced the trading market for the Security.

The Company has stated that it has complied with the rules of the BSE governing the withdrawal of its Security from listing and registration on the Exchange, and that the Exchange has in turn indicated that it will not oppose such withdrawal.

The Company's application relates solely to the withdrawal of the Security from listing and registration on the BSE and shall have no effect upon its continued listing and registration on the Amex or any other national securities exchange on which it is currently listed and registered. By reason of Section 12(b) ³ of the Act and the rules and regulations of the Commission thereunder, the Company shall continue to be obligated to file periodic and other reports required by Section 13 ⁴ of the Act with the Commission.

³ 15 U.S.C. 78l(b).

⁴ 15 U.S.C. 78m.

Any interested person may, on or before March 30, 2000, submit by letter to the Secretary of the Securities and Exchange Commission, 450 Fifth Street, N.W., Washington, D.C. 20549-0609, facts bearing upon whether the application has been made in accordance with the rules of the BSE and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1)
Jonathan G. Katz,
Secretary.

[FR Doc. 00-6665 Filed 3-16-00; 8:45 am]

BILLING CODE 8010-01-M